DEPARTMENT OF THE INTERIOR

Fish and Wildlife Service

Information Collections for Approval Under the Paperwork Reduction Act for Neotropical Migratory Bird Conservation Act Program

AGENCY: Fish and Wildlife Service, Interior.

ACTION: Notice of information collection; request for comments.

SUMMARY: The collection of information described below has been submitted to the Office of Management and Budget (OMB) for emergency approval under the provisions of the Paperwork Reduction Act of 1995, and received OMB approval number 1018-0113 with an expiration date of 6/30/2002. Copies of the specific information collection requirements, related forms and explanatory material may be obtained by contacting the Service Information Collection Clearance Officer at the address provided below.

DATES: Consideration will be given to all comments received on or before March 8, 2002. OMB has up to 60 days to approve or disapprove information collection but may respond after 30 days. Therefore, to ensure maximum consideration, OMB should receive public comments by the above referenced date.

ADDRESSES: Comments and suggestions on the requirement should be sent to Rebecca Mullin, Service Information Collection Clearance Officer, U.S. Fish and Wildlife Service, ms 860—ARLSQ, 1849 C Street, NW, Washington, DC 20240.

FOR FURTHER INFORMATION CONTACT: To request a copy of the information collection request, explanatory information and related forms, contact Rebecca A. Mullin at 703/358-2287, or electronically to rmullin@fws.gov.

SUPPLEMENTARY INFORMATION: The OMB regulations at 5 CFR part 1320, which implement provisions of the Paperwork Reduction Act of 1995 (Pub. L. 104-13), require that interested members of the public and affected agencies have an opportunity to comment on information collection and recordkeeping activities (see 5 CFR 1320.8(d)). On December 19, 2001, the U.S. Fish and Wildlife Service (Service) provided information to OMB for collection of information in order to begin a grants program conducted under the Neotropical Migratory Bird Conservation Act (Public Law 106-247). The assigned OMB information collection control number is 1018-[to be assigned] , and temporary approval expires on [unknown]. The Service is requesting a three year term of approval for this information collection activity. An agency may not conduct or sponsor, and a person is not required to respond to, a collection of information unless it displays a currently valid OMB control number.

Comments are invited on : (1) Whether the collection of information is necessary for the proper performance of the functions of the agency, including whether the information will have practical utility; (2) the accuracy of the agency's estimate of the burden of the collection of information; (3) ways to enhance the quality, utility and clarity of the information to be collected; and, (4) ways to minimize the burden of the collection of information on respondents.

Title: Information Collection In Support of Grant Programs Authorized by the Neotropical Migratory Bird Conservation Act of 2000.

Approval Number: 1018-0113.

Service Form Number(s): N/A.

Description and Use: Congress passed Neotropical Migratory Bird Conservation Act (Act) in 2000, having the following purposes:

(1) To perpetuate healthy populations of neotropical migratory birds;

(2) to assist in the conservation of neotropical migratory birds by supporting conservation initiatives in the United States, Latin America, and the Caribbean; and

(3) to provide financial resources and to foster international cooperation for those initiatives.

The Act establishes “* * * a program to provide financial assistance for projects to promote the conservation of neotropical birds.” (Sec. 5(a)). Section 5(c) “Project Proposals” describes the information to be included in a project proposal.

Proposals for funding will be submitted in response to the call for proposals posted on the Division of Bird Habitat Conservation website. These proposals will be reviewed for completeness and eligibility by staff of the Division, and then distributed to the Advisory Group referenced in Sec. 7(b) of the Act. The Advisory Group will then make a recommendation to the Secretary of the Interior regarding which of these proposals should be funded. The Secretary or her designee will make the final decision. All proposals will be kept on file at the Division. Information collected under this program will be used to respond to such needs as: GPRA reporting, SF 424s, grant agreements, budget reports and justification, public and private requests for information, data provided to other programs for databases on similar programs, Congressional inquiries and reports required by the Act. This is a new collection.

In summary, information collection under these programs is required to obtain a benefit, i.e., a cash reimbursable grant that is given competitively to some applicants based on eligibility and relative scale of resource values involved in the projects. The information collection is subject to the Paperwork Reduction Act requirements for such activity, which includes soliciting comments from the general public regarding the nature and burden imposed by the collection.

Frequency of Collection: Once per year.

Description of Respondents: Individuals, businesses, not-for-profit institutions, Federal Government; and State, local and/or Tribal governments.

Estimated Completion Time: The reporting burden, or time involved in writing a project proposal, is estimated to be 40 hours.

Number of Respondents: It is estimated that 30 proposals will be submitted each year.

Dated: January 2, 2002.
Rebecca A. Mullin,
Information Collection Officer, U.S. Fish and Wildlife Service.

[FR Doc. 02-294 Filed 1-4-02; 8:45 am]

BILLING CODE 4310-55-P